NUCLEAR REGULATORY COMMISSION

NUREG/CR-6931 Volume 1, “CAROLFIRE Test Report Volume 1: General Test Descriptions and the Analysis of Circuit Response Data, Draft for Public Comment,” and NUREG/CR-6931 Volume 2, “CAROLFIRE Test Report Volume 2: Cable Fire Response Data for Fire Model Improvement, Draft for Public Comment—Revision 1”; Extension of Comment Period

AGENCY: Nuclear Regulatory Commission (NRC).

ACTION: Extension of comment period.

SUMMARY: On June 1, 2007 (72 FR 30645), the NRC published a notice of availability and request for public comment on NUREG/CR-6931 Volume 1, “CAROLFIRE Test Report Volume 1: General Test Descriptions and the Analysis of Circuit Response Data, Draft for Public Comment,” and NUREG/CR-6931 Volume 2, “CAROLFIRE Test Report Volume 2: Cable Fire Response Data for Fire Model Improvement, Draft for Public Comment—Revision 1.” The public comment period originally closed on July 16, 2007. This document extends the comment period to July 31, 2007.

DATES: The comment period has been extended to July 31, 2007. Comments received after that date will be considered to the extent practicable. To ensure efficient and complete comment resolution, comments should include volume, section, page, and line numbers of the document to which the comment applies, if possible.

FOR FURTHER INFORMATION, CONTACT: Mark H. Salley, Fire Research Branch, Materials Engineering Directorate, Office of Nuclear Regulatory Research, telephone (301) 415-2840, e-mail mxs3@nrc.gov.

SUPPLEMENTARY INFORMATION: By request of nuclear industry representatives, the comment period is extended to allow for their coordination and consolidation of comments from nuclear industry organizations.

Dated at Rockville, MD, this thirteenth day of June 2007.
For the Nuclear Regulatory Commission.
Mark A. Cunningham,
Director, Division of Fuel, Engineering and Radiological Research, Office of Nuclear Regulatory Research.

[FR Doc. E7-12116 Filed 6-21-07; 8:45 am]

BILLING CODE 7590-01-P